DEPARTMENT OF LABOR

Office of the Secretary

Submission for OMB Review; Comment Request; Correction

January 23, 2003.

On Thursday, January 23, 2003, the Department of Labor (DOL) published a notice in the Federal Register (Vol. 68, No. 15, page 3276) announcing an opportunity to comment on an information collection request (ICR) that was submitted to the Office of Management and Budget (OMB) for review and approval in accordance with the Paperwork Reduction Act of 1995 (Pub. L. 104-13, 44 U.S.C. chapter 35). The notice announced an opportunity to comment on the ICR for ESA's Black Lung Provider Environment Form (OMB control number 1215-0137).

The corrections are as follows:

On page 3276, the Title should read “Provider Enrollment form” instead of “Black Lung Provider Enrollment Form”.

The Description, paragraph one should read:

“The Office of Workers' Compensation Program (OWCP) administers the Federal Employees' Compensation program (FECA), the Coal Mine Workers' Compensation Program (DCMWC), the Energy Employees Occupational Illness Compensation Program (EEOICPA) and the Long shore and Harbor Workers Compensation Program (DLHWC). As part of their benefit structure, the four programs pay for medical services rendered for the diagnosis and treatment of conditions(s) compensable under the acts.”

Instead of:

“The Division of Coal Mine Workers' (DCMWC) is responsible for maintaining a list of authorized treating physicians and medical facilities in the area of the miner's residence and for payment of certain medical bills for services and supplies provided to the miner under the Black Lung Benefits Act (30 U.S.C. 901 et seq., 20 CFR 725.704(a) and 725.705(b)).”

Ira L. Mills,
Departmental Clearance Officer.

[FR Doc. 03-2285 Filed 1-30-03; 8:45 am]

BILLING CODE 4510-CK-M